DEPARTMENT OF ENERGY

Federal Energy Regulatory Commission

Combined Notice of Filings #1

May 16, 2007.

Take notice that the Commission received the following electric corporate filings:

Docket Numbers: EC07-90-000.

Applicants: Orange and Rockland Utilities, Inc.

Description: Orange and Rockland Utilities submit an application under section 203 for order authorizing the purchase or acquisition of short-term debt of Rockland Electric Co not in excess of $30 million at any one time outstanding.

Filed Date: 5/14/2007.

Accession Number: 20070514-5017.

Comment Date: 5 p.m. Eastern Time on Monday, June 4, 2007.

Take notice that the Commission received the following electric rate filings:

Docket Numbers: ER00-2187-002.

Applicants: CMS Distributed Power, L.L.C.

Description: CMS Distributed Power LLC submits a Notice of Non-Material Change in Status.

Filed Date: 5/11/2007.

Accession Number: 20070515-0330.

Comment Date: 5 p.m. Eastern Time on Friday, June 1, 2007.

Docket Numbers: ER01-2159-000.

Applicants: Hermiston Generating Company, L.P.

Description: Hermiston Generating Company, LP advises FERC that it had no purchasers (as defined under 18 CFR, Section 46.3) for power in 2006.

Filed Date: 5/8/2007.

Accession Number: 20070514-0088.

Comment Date: 5 p.m. Eastern Time on Tuesday, May 29, 2007.

Docket Numbers: ER04-157-020; ER04-714-010.

Applicants: Central Maine Power Company; Bangor Hydro-Electric Company.

Description: Central Maine Power Company submits a regional Refund Report.

Filed Date: 5/8/2007.

Accession Number: 20070507-5107.

Comment Date: 5 p.m. Eastern Time on Tuesday, May 29, 2007.

Docket Numbers: ER04-708-003.

Applicants: Horsehead Corp.

Description: Notification of Change in Status.

Filed Date: 5/14/2007.

Accession Number: 20070514-5113.

Comment Date: 5 p.m. Eastern Time on Monday, June 4, 2007.

Docket Numbers: ER04-1003-007; ER04-1007-007.

Applicants: American Electric Power Service Corp.

Description: American Electric Power Service Corp submits an amendment to its filing in compliance with FERC's 4/18/07 Order.

Filed Date: 5/11/2007.

Accession Number: 20070515-0332.

Comment Date: 5 p.m. Eastern Time on Friday, June 1, 2007.

Docket Numbers: ER05-522-004; ER06-1382-004.

Applicants: Bluegrass Generation Company, L.L.C.

Description: Electric Refund Compliance Report.

Filed Date: 5/15/2007.

Accession Number: 20070515-5051.

Comment Date: 5 p.m. Eastern Time on Tuesday, June 5, 2007.

Docket Numbers: ER06-278-006.

Applicants: Nevada Hydro Company, Inc.

Description: Comments of California Independent System Operator Corp in Response to Nov. 17, 2006 Order on rate Request.

Filed Date: 5/1/2007.

Accession Number: 20070501-5066.

Comment Date: 5 p.m. Eastern Time on Tuesday, May 22, 2007.

Docket Numbers: ER07-614-001.

Applicants: American Transmission Systems, Inc.

Description: American Transmission Systems, Inc's response to FERC's deficiency letter dated 4/12/07.

Filed Date: 5/11/2007.

Accession Number: 20070515-0337.

Comment Date: 5 p.m. Eastern Time on Friday, June 1, 2007.

Docket Numbers: ER07-888-000.

Applicants: PJM Interconnection, L.L.C.

Description: PJM Interconnection, LLC submits amendments to Schedule 12 of Amended and Restated Operating Agreement etc.

Filed Date: 5/11/2007.

Accession Number: 20070515-0336.

Comment Date: 5 p.m. Eastern Time on Friday, June 1, 2007.

Docket Numbers: ER07-889-000.

Applicants: Westar Energy, Inc.

Description: Westar Energy, Inc submits the Wholesale Electric Energy and Capacity Agreement with the City of Alma, Kansas and request for waiver.

Filed Date: 5/11/2007.

Accession Number: 20070515-0335.

Comment Date: 5 p.m. Eastern Time on Friday, June 1, 2007.

Docket Numbers: ER07-890-000.

Applicants: Waterbury Generation LLC.

Description: Waterbury Generation LLC request for Expedited Consideration and Temporary Waiver of Qualification Process Reimbursement Deposit Due Date under Market Rule 1.

Filed Date: 5/14/2007.

Accession Number: 20070515-0334.

Comment Date: 5 p.m. Eastern Time on Monday, June 4, 2007.

Docket Numbers: ER07-891-000.

Applicants: PJM Interconnection L.L.C.

Description: PJM Interconnection, LLC submits revisions to the chart in Schedule 2 to adjust downward the zonal revenue requirements of Reliant Energy Electric Solutions, LLC.

Filed Date: 5/14/2007.

Accession Number: 20070515-0333.

Comment Date: 5 p.m. Eastern Time on Monday, June 4, 2007.

Docket Numbers: ER07-893-000.

Applicants: Cleco Power LLC.

Description: Cleco Power LLC submits amendment to its Open Access Transmission Tariff to reflect the current list of point-to-point transmission customers.

Filed Date: 5/10/2007.

Accession Number: 20070514-0093.

Comment Date: 5 p.m. Eastern Time on Thursday, May 31, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-9988 Filed 5-23-07; 8:45 am]

BILLING CODE 6717-01-P